DEPARTMENT OF DEFENSE

Office of the Secretary

Defense Transportation Regulation, Part IV

AGENCY: United States Transportation Command (USTRANSCOM), DoD.

ACTION: Announcement.

SUMMARY: The Department of Defense has rescinded the Defense Transportation Regulation Part IV (Personal Property), (DTR 4500.9R), Appendices in connection with the Defense Personal Property Program (DP3) Phase III Intra-Country Moves (iCM).

FOR FURTHER INFORMATION CONTACT: Mr. Jim Teague, United States Transportation Command, TCJ4-PI, 508 Scott Drive, Scott Air Force Base, IL 62225-5357; (618) 220-4803.

SUPPLEMENTARY INFORMATION:

The following DTR Part IV Appendices have been rescinded:

Appendix V.E.3 (CSS)

Appendix V.F.3 (Best Value)

Appendix V.G.3 (TPPS)

Appendix V.J.3 (Shipment Management)

Intra-Country type personal property shipments will be solicited under SDDC International Tender provisions (e.g., channel, code of service, rate filing etc.), and/or under Military Services Personal Property Shipping Office Direct Procurement Method contract provisions.

A complete version of the DTR is available via the Internet on the USTRANSCOM homepage at http://www.transcom.mil/dtr/dtrp4.cfm.

Dated: November 24, 2015.
Aaron Siegel,
Alternate OSD Federal Register Liaison Officer, Department of Defense.

[FR Doc. 2015-30373 Filed 11-30-15; 8:45 am]

BILLING CODE 5001-06-P